DEPARTMENT OF STATE

[Delegation of Authority No. 402]

Delegation of the Authority To Submit Report Pursuant to Section 1247 of Public Law 114-92

By virtue of the authority vested in the Secretary of State by subparagraph (a)(4) of the State Department Basic Authorities Act, as amended (22 U.S.C. 2651a) and the Presidential Memorandum of July 26, 2016, I hereby delegate to the Under Secretary for Arms Control and International Security, to the extent authorized by law, the authority to submit the recurring report required by Section 1247 of the National Defense Authorization Act for Fiscal Year 2016, Pub. L. 114-92, concerning the reasons that the continued implementation of the New START Treaty is in the national security interests of the United States.

Notwithstanding this delegation of authority, the authorities delegated herein may be exercised by the Secretary, the Deputy Secretary, or the Deputy Secretary for Management and Resources. Any reference in this delegation of authority to any statute or delegation of authority shall be deemed to be a reference to such statute or delegation of authority as amended from time to time.

This delegation of authority shall be published in the Federal Register.

Dated: August 18, 2016.
John F. Kerry,
Secretary of State.

[FR Doc. 2016-21086 Filed 8-31-16; 8:45 am]

BILLING CODE 4710-35-P